DEPARTMENT OF THE INTERIOR

National Park Service

[2410-OYC]

Information Collection Sent to the Office of Management and Budget (OMB) for Approval; OMB Control Number 1024-0233; National Park Service Leasing Program

AGENCY: National Park Service, Interior.

ACTION: Notice; request for comments.

SUMMARY: We (National Park Service) have sent an Information Collection Request (ICR) to OMB for review and approval. We summarize the ICR below and describe the nature of the collection and the estimated burden and cost. This ICR is scheduled to expire on November 30, 2010. We may not conduct or sponsor and a person is not required to respond to a collection of information unless it displays a currently valid OMB control number. However, under OMB regulations, we may continue to conduct or sponsor this information collection while it is pending at OMB.

DATES: You must submit comments on or before December 29, 2010.

ADDRESSES: Send your comments and suggestions on this information collection to the Desk Officer for the Department of the Interior, Office of Information and Regulatory Affairs, OMB, at (202) 395-5806 (fax) or OIRA_DOCKET@OMB.eop.gov (e-mail). Please provide a copy of your comments to Jo A. Pendry, Chief, Commercial Services Program, National Park Service, 1201 Eye Street, NW., 11th Floor, Washington, DC 20005, via fax at (202) 371-2090; at via e-mail at jo_pendry@nps.gov.

FOR FURTHER INFORMATION CONTACT: To request additional information about this ICR contact Erica Chavis, Concessions Assistant, National Park Service, by mail at 1201 Eye Street, NW, 11th Floor, Washington, DC 20005, via fax at (202) 371-2090, via e-mail at Erica_chavis@nps.gov, or by telephone at (202) 513-7144.

SUPPLEMENTARY INFORMATION: OMB Control Number: 1024-0233.

Title: National Park Service Leasing Program.

Form Number: None.

Type of Request: Revision of a currently approved collection.

Description of Respondents: Individuals seeking to lease or in current lease agreements for National Park Service-controlled public property and facilities.

Respondent's Obligation: Required to obtain or retain a benefit.

Frequency of Collection: On occasion.

Estimated Number of Respondents: 327.

Estimated Number of Responses: 327.

Completion Time per Response: 4.62 hours.

Estimated Annual Burden Hours: 1,512.

Estimated Annual Nonhour Burden Cost: None.

Abstract: The National Park Service leasing program allows the public to lease property located within the boundaries of the park system. Information is collected from anyone who wishes to submit a bid or proposal in response to a Request for Bids or a Request for Proposals; or from current lease holders who wish to sublet a leased property or assign the lease to a new lessee, construct or demolish portions of a leased property, amend a lease to change the type of activities permitted under the lease, or encumber (mortgage) the leased premises. The information collected will be used to evaluate offers, proposed subleases or assignments, proposed construction or demolition, the merits of proposed lease amendments, and proposed encumbrances.

Comments: On July 24, 2010, we published in the Federal Register (75 FR 40849) a notice of our intent to request that OMB renew this information collection. In that notice, we solicited comments for 60 days, ending on June 4, 2010. We did not receive any comments in response to that notice.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 22, 2010.
Robert Gordon,
NPS, Information Collection Clearance Officer.

[FR Doc. 2010-29973 Filed 11-26-10; 8:45 am]

BILLING CODE 4312-53-P